DEPARTMENT OF THE INTERIOR

Bureau of Ocean Energy Management

[Docket No. BOEM-2024-0055]

Notice of Availability of a Joint Record of Decision for the Proposed SouthCoast Wind Project

AGENCY: Bureau of Ocean Energy Management, Interior; National Marine Fisheries Service, National Oceanic and Atmospheric Administration, Commerce; U.S. Army Corps of Engineers, Department of the Army.

ACTION: Record of decision; notice of availability.

SUMMARY: The Bureau of Ocean Energy Management (BOEM) announces the availability of the joint record of decision (ROD) on the final environmental impact statement (EIS) for the construction and operations plan (COP) submitted by SouthCoast Wind Energy LLC (SouthCoast Wind) for its proposed SouthCoast Wind Project (Project) offshore Massachusetts and Rhode Island. The joint ROD includes the Department of the Interior's (DOI) decision regarding the COP; National Marine Fisheries Service's (NMFS) decision, pending completion of all statutory processes, regarding SouthCoast Wind's requested Incidental Take Regulations (ITR) and an associated Letter of Authorization (LOA) under the Marine Mammal Protection Act (MMPA); and U.S. Army Corps of Engineers' (USACE) decision regarding authorizations under section 10 of the Rivers and Harbors Act of 1899 (RHA) and section 404 of the Clean Water Act (CWA). NMFS has adopted the final EIS to support its decision about whether or not to promulgate the requested ITR and issue an LOA to SouthCoast Wind under the MMPA. USACE has adopted the final EIS to support its decision to issue a Department of the Army (DA) permit under section 10 of the RHA and section 404 of the CWA. The joint ROD concludes the National Environmental Policy Act process for each agency.

ADDRESSES: The joint ROD and associated information are available on BOEM's website at https://www.boem.gov/renewable-energy/state-activities/southcoast-wind-formerly-mayflower-wind.

FOR FURTHER INFORMATION CONTACT: For information related to BOEM's action, please contact Genevieve Brune, BOEM Office of Renewable Energy Programs, 45600 Woodland Road, VAM-OREP, Sterling, Virginia 20166, (703) 787-1553, or genevieve.brune@boem.gov. For information related to NMFS' action, please contact Katherine Renshaw, National Oceanic Atmospheric Administration (NOAA) Office of General Counsel, (302) 515-0324, katherine.renshaw@noaa.gov. For information related to USACE's action, please contact Roberta Budnik, Regulatory Division, New England District, (978) 318-8766, roberta.K.Budnik@usace.army.mil.

SUPPLEMENTARY INFORMATION: SouthCoast Wind seeks approval to construct, operate, and maintain the Project: a wind energy facility and the associated export cables on the Outer Continental Shelf (OCS) offshore Massachusetts and Rhode Island. The Project would be developed within the range of design parameters outlined in the COP, subject to applicable mitigation measures.

A notice of availability for the final EIS was published in the Federal Register on November 15, 2024 at 89 FR 90316. On December 16, 2024, BOEM published an errata on its website that included certain edits to the Executive Summary, Chapter 2, Chapter 3, Appendix F, Appendix G, Appendix I, Appendix N, and Appendix O. None of these edits are substantive or affect the analysis or conclusions in the final EIS.

The proposed Project would be located about 26 nautical miles (nm) (48 kilometers) south of Martha's Vineyard and 20 nm (37 kilometers) south of Nantucket in the area defined in BOEM's renewable energy lease number OCS-A 0521 (Lease Area). The Lease Area covers approximately 127,388 acres. The Project would consist of up to 149 positions in the Lease Area to be occupied by up to 147 wind turbine generators and up to five offshore substation platforms. The 149 positions will conform to a 1 nm x 1 nm grid layout with an east-west and north-south orientation, which lessees agreed would apply across all the Massachusetts and Rhode Island wind energy areas. The Project would include one preferred export cable corridor making landfall and interconnecting to the ISO New England Inc. (ISO-NE) grid at Brayton Point in Somerset, Massachusetts. The Project would be developed in two parts or projects: Project 1 refers to the development in the northern portion of the Lease Area and associated interconnection, and Project 2 refers to the development in the southern portion of the Lease Area and associated interconnection. The preferred export cable corridor to Brayton Point would be used for both Project 1 and Project 2 to be built out within the Lease Area. The Project would also include one variant export cable corridor that, if used, would make landfall and interconnect to the ISO-NE grid in the town of Falmouth, Massachusetts. In the event that technical, logistical, grid interconnection, or other unforeseen challenges arise during the design and engineering phase that prevent Project 2 from making interconnection at Brayton Point, Project 2 would use the Falmouth variant export cable corridor.

After carefully considering public comments on the draft EIS and the alternatives described and analyzed in the final EIS, DOI selected Alternative D, “Nantucket Shoals,” which eliminates six wind turbine generators from the Project as proposed in the COP. Alternative D is the Preferred Alternative identified in the final EIS. The anticipated mitigation, monitoring, and reporting requirements, which will be included in BOEM's COP approval as terms and conditions, are included in Appendix A of the ROD, which is available at: https://www.boem.gov/renewable-energy/state-activities/southcoast-wind-formerly-mayflower-wind.

NMFS has adopted BOEM's final EIS to support its decision about whether or not to promulgate the requested ITR and issue the associated LOA to SouthCoast Wind. NMFS' final decision of whether or not to promulgate the requested ITR and issue the LOA will be documented in a separate Decision Memorandum prepared in accordance with internal NMFS policy and procedures. The final ITR and a notice of issuance of the LOA, if issued, would be published in the Federal Register. The LOA would authorize SouthCoast Wind to take small numbers of marine mammals incidental to Project construction and would set forth: permissible methods of incidental taking; means of effecting the least practicable adverse impact on the species and their habitat; and requirements for monitoring and reporting. Pursuant to Section 7 of the Endangered Species Act (ESA), NMFS issued a final Biological Opinion to BOEM on November 7, 2024, evaluating the effects of the proposed action on ESA-listed species. The proposed action in the Biological Opinion includes the associated permits, approvals, and authorizations that may be issued.

USACE has decided to adopt BOEM's final EIS and issue a permit to SouthCoast Wind under section 10 of the RHA and section 404 of the CWA. The USACE permit will authorize SouthCoast Wind to discharge fill below the high tide line of waters of the United States. It will also authorize SouthCoast Wind to perform work and place structures below the mean high water mark of navigable waters of the United States and to affix structures to the seabed on the OCS.

Authority: National Environmental Policy Act of 1969, as amended, (42 U.S.C. 4321 et seq.); 40 CFR 1505.2

Karen Baker,
Associate Director, Renewable Energy Programs, Bureau of Ocean Energy Management.

[FR Doc. 2024-31062 Filed 12-26-24; 8:45 am]

BILLING CODE 4340-98-P